DEPARTMENT OF VETERANS AFFAIRS

Advisory Committee on Women Veterans; Notice of Meeting

The Department of Veterans Affairs (VA) gives notice under the Federal Advisory Committee Act, 5 U.S.C. App. 2., that the Advisory Committee on Women Veterans will meet on May 19-21, 2015, in Room 930, at VA Central Office, 810 Vermont Avenue NW., Washington, DC, from 8:30 until 4:00 p.m. on Tuesday and Thursday and end at 3:00 p.m. on Wednesday. The meeting is open to the public.

The purpose of the Committee is to advise the Secretary of Veterans Affairs regarding the needs of women Veterans with respect to health care, rehabilitation, compensation, outreach, and other programs and activities administered by VA designed to meet such needs. The Committee makes recommendations to the Secretary regarding such programs and activities.

The agenda will include updates from the Veterans Health Administration, the Veterans Benefits Administration, and Staff Offices, as well as updates on recommendations from the 2012 and 2014 Reports of the Advisory Committee on Women Veterans.

No time will be allocated at this meeting for receiving oral presentations from the public. Interested parties should provide written comments for review by the Committee to Ms. Shannon L. Middleton, VA, Center for Women Veterans (00W), 810 Vermont Avenue NW., Washington, DC 20420, or email at 00W@mail.va.gov, or fax to (202) 273-7092. Any member of the public who wishes to attend the meeting or wants additional information should contact Ms. Middleton at (202) 461-6193. Because the meeting will be in a Government building, anyone attending must be prepared to show a valid photo I.D. Please allow 15 minutes before the meeting begins for this process.

Dated: March 25, 2015.
Jelessa Burney,
Federal Advisory Committee Management Officer.

[FR Doc. 2015-07179 Filed 3-27-15; 8:45 am]

BILLING CODE 8320-01-P